NUCLEAR REGULATORY COMMISSION

[NRC-2022-0001]

Sunshine Act Meetings

TIME AND DATE: Weeks of September 19, 26, October 3, 10, 17, 24, 2022. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

STATUS: Public and closed.

Members of the public may request to receive the information in these notices electronically. If you would like to be added to the distribution, please contact the Nuclear Regulatory Commission, Office of the Secretary, Washington, DC 20555, at 301-415-1969, or by email at Wendy.Moore@nrc.gov or Tyesha.Bush@nrc.gov.

MATTERS TO BE CONSIDERED:

Week of September 19, 2022

Monday, September 19, 2022

10:00 a.m. Briefing on NRC International Activities (Closed—Ex. 1 & 9)

Week of September 26, 2022—Tentative

There are no meetings scheduled for the week of September 26, 2022.

Week of October 3, 2022—Tentative

There are no meetings scheduled for the week of October 3, 2022.

Week of October 10, 2022—Tentative

Tuesday, October 11, 2022

10:00 a.m. NRC All Employees Meeting (Public Meeting); (Contact: Anthony DeJesus: 301-287-9219)

Additional Information: The meeting will be held in the Commissioners' Conference Room, 11555 Rockville Pike, Rockville, Maryland. The public is invited to attend the Commission's meeting in person or watch live via webcast at the Web address— https://video.nrc.gov/.

Thursday, October 13, 2022

9:00 a.m. Strategic Programmatic Overview of the Operating Reactors and New Reactors Business Lines (Public Meeting); (Contact: Jennie Rankin, 301-415-1530)

Additional Information: The meeting will be held in the Commissioners' Conference Room, 11555 Rockville Pike, Rockville, Maryland. The public is invited to attend the Commission's meeting in person or watch live via webcast at the Web address— https://video.nrc.gov/.

Week of October 17, 2022—Tentative

There are no meetings scheduled for the week of October 17, 2022.

Week of October 24, 2022—Tentative

There are no meetings scheduled for the week of October 24, 2022.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: September 14, 2022.
For the Nuclear Regulatory Commission.
Wesley W. Held,
Policy Coordinator, Office of the Secretary.

[FR Doc. 2022-20231 Filed 9-14-22; 4:15 pm]

BILLING CODE 7590-01-P